NATIONAL FOUNDATION ON THE ARTS AND THE HUMANITIES

National Endowment for the Arts

2023 Tribal Consultation

AGENCY: National Endowment for the Arts.

ACTION: Notice.

SUMMARY: The National Endowment for the Arts will conduct a Tribal Consultation at the 2023 International Conference of Indigenous Tribal Archives, Libraries, and Museums in Oklahoma City, Oklahoma on Wednesday, October 25, 2023, 2:30-3:30 p.m. CDT.

DATES: The 2023 Tribal Consultation will take place on October 25, 2023, 2:30-3:30 p.m. CDT. Tribal leaders wishing to send a proxy to the consultation session should send notification to the email address listed in the address section below by October 18, 2023. If neither a tribal leader nor a proxy is able to attend this consultation session, please provide written comments to the email address listed in the address section below by November 15, 2023.

ADDRESSES: Please RSVP for this meeting by emailing NativeArts@arts.gov. Proxy notifications and written comments may also be sent to NativeArts@arts.gov by the dates listed above.

SUPPLEMENTARY INFORMATION:

The agenda is as follows:

1. NEA Resources

a. The NEA, established by Congress in 1965, is an independent Federal agency that is the largest funder of the arts and arts education in communities nationwide and a catalyst of public and private support for the arts. By advancing equitable opportunities for arts participation and practice, the NEA fosters and sustains an environment in which the arts benefit everyone in the United States. This is accomplished primarily by providing resources to support the creative lives of all communities in the United States. Grants are awarded for specific projects to 501(c)(3) nonprofit organizations, federally recognized Tribes, or units of State or local government. Individual makers, artists, and culture bearers are recognized and supported through programs such as the National Heritage Fellowship, Jazz Masters, and Creative Writing Fellowships. Forty percent of the NEA's program budget is granted to State Arts Agencies and Regional Arts Organizations, which make subgrants to support additional arts activities across the nation.

i. What is your awareness of our agency's work?

ii. Have NEA resources impacted your community? If so, how?

iii. To what extent do you see the arts and cultural activities of your tribal community reflected in the resources we offer?

iv. The review criteria for our primary grant program, Grants for Arts Projects, includes artistic excellence, which is defined as “The quality of the artists and other key individuals, creative process, works of art, organizations, arts education providers, artistic partners, and/or services involved in the project and their relevance to the audience or communities the project aims to serve.” How does this definition of artistic excellence resonate with the artistic and cultural activities of your tribal community?

2. Tribal Engagement

a. In recent years, the NEA has made grants to Tribal governments and Tribal Colleges & Universities (TCUs). We also have recognized Indigenous artists with National Heritage Fellowships. These direct grants to Tribes, Tribal citizens, and TCUs are in addition to the grants we make to Native-serving nonprofits.

i. How can the NEA expand on this engagement with tribes and increase awareness of these opportunities?

ii. If the NEA has the resources to send staff representation to in-person events, where would our participation be most effective?

b. The NEA annually updates the Federal Resources for Native Arts & Cultural Activities, which is a consolidation of opportunities offered by federal agencies for organizations looking for funding and other resources to support Native arts and cultural activities.

i. Have you ever accessed this publication?

ii. Is this publication a useful resource to make available to tribal communities?

iii. How can we increase awareness of this resource guide?

3. Partnerships With Tribal-Serving Organizations

a. Tribal Arts Councils: At the last NEA Tribal Consultation session, the NEA discussed the possibility of supporting the work of Tribal Arts Councils, bodies organized to support arts and cultural activities at the regional level by providing programs and support services. These Tribal Arts Councils could be similar in form to State, regional or local Arts agencies, and would support the identified need for greater regional Tribal resources.

i. How would you see a tribal arts council benefiting your community?

ii. What regional needs would apply to tribal arts councils?

iii. Would a government point of contact specific to arts grants be beneficial?

iv. What support would Tribal Arts Councils require from NEA?

v. Do you currently work with your State and/or Local Arts Agency?

Dated: August 24, 2023.
RaShaunda Thomas,
Deputy Director, Office of Administrative Services & Contracts, National Endowment for the Arts.

[FR Doc. 2023-19550 Filed 9-18-23; 8:45 am]

BILLING CODE 7537-01-P